DEPARTMENT OF COMMERCE

National Oceanic and Atmospheric Administration

RIN 0648-XG670

U.S. Stakeholder Meetings on North Pacific Albacore Management Strategy Evaluation; Meeting Announcement

AGENCY: National Marine Fisheries Service (NMFS), National Oceanic and Atmospheric Administration (NOAA), Commerce.

ACTION: Notice of public meeting.

SUMMARY: NMFS is holding a meeting to present and solicit public input on preliminary results of the North Pacific albacore Management Strategy Evaluation (MSE) conducted by the International Scientific Committee for Tuna and Tuna-like Species in the North Pacific. The meeting topics are described under the SUPPLEMENTARY INFORMATION section of this notice.

DATES: The meeting will be held February 6, 2019, from 9:00 a.m. to 5:00 p.m. PST, and February 7, 2019, from 8:30 a.m. to 12:30 p.m. PST.

ADDRESSES: The meeting will be held concurrently in two locations: (1) In the Pacific Conference Room (Room 300) at NMFS, Southwest Fisheries Science Center, 8901 La Jolla Shores Drive, La Jolla, California 92037; and (2) Room 3400 at the Long Beach Federal Building, 501 W. Ocean Blvd., Long Beach, California 90802. Please notify Celia Barroso (see FOR FURTHER INFORMATION CONTACT) by January 30, 2019, if you plan to attend and whether you will be attending in person or remotely. The meetings will also be accessible by webinar—instructions and background materials will be emailed to meeting participants.

FOR FURTHER INFORMATION CONTACT: Celia Barroso, West Coast Region, NMFS, at Celia.Barroso@noaa.gov, or at (562) 432-1850.

SUPPLEMENTARY INFORMATION: The International Scientific Committee for Tuna and Tuna-like Species in the North Pacific Ocean (ISC) is hosting the 4th North Pacific Albacore MSE Workshop on March 5-7, 2019, in Yokohama, Japan. MSE is a simulation that allows stakeholders (e.g., industry, managers, scientists) to assess how well different management strategies, such as harvest control rules, meet the objectives of a fishery. The ISC will present the results of the initial North Pacific albacore MSE at the upcoming Workshop. NMFS is hosting a meeting in advance of the Workshop to present the preliminary results of the MSE to U.S. stakeholders. Because ISC meetings are often held abroad, NMFS seeks to engage in discussions on the MSE results with more stakeholders than could possibly travel to the ISC Workshop. NMFS is soliciting participants' input on the preliminary results of the MSE and NMFS representatives attending the ISC workshop can then convey information gathered at the U.S. stakeholder meeting to participants at the ISC Workshop. The manner of public comment during the NMFS-hosted meeting will be at the discretion of the presenters and NMFS staff.

North Pacific Albacore U.S. Stakeholder Meeting Topics

The North Pacific albacore MSE topics will include, but are not limited to, the following:

(1) An overview of the North Pacific albacore MSE; and

(2) Discussion of the results of testing the initial management strategies.

Special Accommodations

The meeting location is physically accessible to people with disabilities. Requests for sign language interpretation or other auxiliary aids should be directed to Celia Barroso (see FOR FURTHER INFORMATION CONTACT) by January 20, 2019.

Authority: 16 U.S.C. 951 et seq. and 16 U.S.C. 6901 et seq.

Dated: December 17, 2018.
Karen H. Abrams,
Acting Director, Office of Sustainable Fisheries, National Marine Fisheries Service.

[FR Doc. 2018-27644 Filed 12-20-18; 8:45 am]

BILLING CODE 3510-22-P